DEPARTMENT OF TRANSPORTATION

Federal Railroad Administration

Petitions for Waivers of Compliance

In accordance with Title 49 Code of Federal Regulations (CFR) section 211.41, and 49 U.S.C. 20103, notice is hereby given that the Federal Railroad Administration (FRA) has received a request for waiver of compliance with certain requirements of the Federal railroad safety regulations. The individual petition is described below, including the party seeking relief, the regulatory provisions involved, and the nature of the relief being sought.

Mississippi Lime Company

FRA Waiver Petition No. FRA-2003-16130

Mississippi Lime Company located in Ste. Genevieve, Missouri, is seeking a “Wavier from all applicable provisions of 49 CFR Sec. 200, et. seq, and any and all other applicable statutes, rules, and regulations enforced by the Federal Railroad Administration.” The Mississippi Lime Company anticipates entering into a nonexclusive agreement to operate on approximately two miles of trackage owned by the Union Pacific Railroad Company (UP) from Milepost 87.0 to Milepost 89.0 on the Mosher Lead. The applicant states, “The Mosher Lead is only used by the UP when (i) UP makes deliveries to the Company, (ii) UP's main line track that runs adjacent to the Mississippi River is inaccessible due to elevated water levels of the Mississippi River, and (iii) UP delivers one to three cars annually to MFA Co-Op Exchange, the only other industry located on the Mosher Lead.”

Since FRA has not yet completed its investigation of the Mississippi Lime Company petition, the agency takes no position at this time on the merits of stated justifications.

Interested parties are invited to participate in this proceeding by submitting written views, data, or comments. FRA does not anticipate scheduling a public hearing in connection with the request for a waiver of certain regulatory provisions. If any interested party desires an opportunity for oral comment, he or she should notify FRA, in writing, before the end of the comment period and specify the basis for his or her request.

All communications concerning these proceedings should identify the appropriate docket number (Docket Number FRA FRA-2003-16130) and must be submitted to the DOT Docket Management Facility, Room PL-401 (Plaza level) 400 Seventh Street, SW., Washington, DC 20590. All documents in the public docket, including Mississippi Lime Company's detailed waiver request, are also available for inspection and copying on the Internet at the docket facility's Web site at http://dms.dot.gov.

Communications received within 30 days of the date of this notice will be considered by FRA before final action is taken. Comments received after that date will be considered as far as practicable. All written communications concerning this proceeding are available for examination during regular business hours (9 a.m.-5 p.m.) at the above facility.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on March 5, 2004.
Grady C. Cothen, Jr.,
Deputy Associate Administrator for Safety Standards and Program Development.

[FR Doc. 04-5492 Filed 3-10-04; 8:45 am]

BILLING CODE 4910-06-P